FEDERAL MARITIME COMMISSION

[Docket No. 03-11]

Deans Overseas Shippers, Inc., and Sharon Stephenson Deans—Possible Violations of Sections 8(a), 10(a)(1) and 19 of the Shipping Act of 1984, as Amended, and the Commission's Regulations at 46 CFR Parts 515 and 520; Deans International Shipping Co., Ltd.—Application for License as an Ocean Transportation Intermediary; Order of Investigation and Hearing

Notice is given that on October 8, 2003, the Federal Maritime Commission served an Order of Investigation and Hearing on Deans Overseas Shippers, Inc. (“Deans Overseas”), Sharon Stephenson Deans (“Ms. Deans”), and Deans International Shipping Co., Ltd. (“Deans International”). Deans Overseas, incorporated in New York, is doing business as a household goods mover in the United States export trades, primarily to Caribbean destinations. Ms. Deans is the chief executive officer and owns 100% of Deans Overseas' capital stock. Deans Overseas operated as a non-vessel-operating common carrier (“NVOCC”) prior to revocation of its tariff effective September 1996, when its bond was not renewed. Deans International was incorporated in New York on June 28, 2002. Ms. Deans serves as chief executive officer of Deans International and owns 100% of the company's stock. Ms. Deans has filed an application with the Commission seeking a freight forwarder license on behalf of Deans International.

It appears that, from at least October 2000 to the present, Deans Overseas and its principal, Ms. Deans, provided NVOCC services from the United States to destinations in the Caribbean without first obtaining an ocean transportation intermediary (“OTI”) license, a bond or other surety, and publishing a tariff open for public inspection. It also appears that Deans Overseas, through Ms. Deans, misrepresented itself as the actual cargo owner in order to enter into service contracts with ocean common carriers and to receive transportation for property at rates more favorable than those published in the carriers' tariffs.

This proceeding therefore seeks to determine: (1) Whether Deans Overseas Shippers, Inc., and or Sharon Stephenson Deans violated sections 8(a) and 19 of the Shipping Act of 1984 (“1984 Act”) and the Commission's regulations at 46 CFR parts 515 and 520 by knowingly and willfully performing NVOCC services without having obtained an OTI license from the Commission, without having filed a bond or other financial responsibility, and without having published a tariff; (2) whether Deans Overseas Shippers, Inc., and/or Sharon Stephenson Deans violated section 10(a)(1) of the 1984 Act by knowingly and willfully obtaining transportation for property at less than the rates or charges that otherwise would be applicable by the unjust or unfair device or means of unlawfully entering into service contracts; (3) whether the application of Deans International Shipping Co., Ltd., for an OTI license to operate as a freight forwarder should be granted or denied; (4) whether, in the event violations of sections 8(a), 10(a)(1) and 19 of the 1984 Act or the Commission's regulations at 46 CFR parts 515 and 520 are found, civil penalties should be assessed and, if so, the amount; and (5) whether, in the event violations are found, an appropriate cease and desist order should be issued.

The full text of the Order may be viewed on the Commission's Home Page at http//www.fmc.gov or at the Office of the Secretary, Room 1046, 800 N. Capitol Street, NW., Washington, DC. Any person may file a petition for leave to intervene in accordance with 46 CFR 502.72.

Dated: October 10, 2003.
Bryant L. VanBrakle,
Secretary.

[FR Doc. 03-26236 Filed 10-16-03; 8:45 am]

BILLING CODE 6730-01-P